DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-017. Applicant: University of Wisconsin, Madison, 1500 Engineering Drive, Madison, WI 53706. Instrument: High Power Pulsed Ultra-Fast Fiber Laser, Model FCPA μJewel B-250. Manufacturer: Aisin Seiki Co., Ltd., Japan.

Intended Use: The instrument is intended to be used to direct a laser beam through gas cells containing water vapor in order to measure the transmission spectrum of the water vapor, infer the water vapor properties and perform a detailed uncertainty analysis for the measured properties. Portable operation and high signal-to-noise ratio are required and the wavelength (1300 nm) must be suitable for H2O vapor absorption. Application Accepted by Commissioner of Customs: March 29, 2005.

Gerald A. Zerdy,
Program Manager Statutory Import Programs Staff.

[FR Doc. E5-1848 Filed 4-18-05; 8:45 am]

BILLING CODE 3510-DS-S